DEPARTMENT OF AGRICULTURE

Forest Service

Notice of Resource Advisory Committee Meeting

AGENCY: Southwest Idaho Resource Advisory Committee, Boise, ID. USDA, Forest Service.

ACTION: Notice of Meeting.

SUMMARY: Pursuant to the authorities in the Federal Advisory Committee Act (Public Law 92-463) and under the Secure Rural Schools and Community Self-Determination Act of 2000 (Public Law 106-393), the Boise and Payette National Forests' Southwest Idaho Resource Advisory Committee will meet Wednesday, January 15, 2003 in Boise, Idaho for a business meeting. The meeting is open to the public.

SUPPLEMENTARY INFORMATION: The business meeting on January 15, begins at 10:30 AM, at the Idaho Counties Risk Management Program Building, 3100 Vista Avenue, Boise, Idaho. Agenda topics will include review and approval of project proposals, and an open public forum.

FOR FURTHER INFORMATION CONTACT: Randy Swick, Designated Federal Officer, at (208) 634-2290.

Dated: December 18, 2002.
Cliff Steele,
Acting Forest Supervisor, Payette National Forest.

[FR Doc. 02-32527 Filed 12-24-02; 8:45 am]

BILLING CODE 3410-11-M